DEPARTMENT OF TRANSPORTATION

Coast Guard

33 CFR Part 117

[CGD08-00-026]

RIN 2115-AE47

Drawbridge Operating Regulation; Neches River, TX

AGENCY: Coast Guard, DOT.

ACTION: Final rule.

SUMMARY: The Coast Guard is issuing this rule as a matter of information to the public. The Kansas City Southern Lift Bridge across the Neches River, mile 19.5, in Beaumont, TX is currently controlled from a remote location. The owner of the bridge, The Kansas City Southern Railway Company operates the bridge from their dispatch office in Shreveport, LA. This rule provides the public with a complete description of the operation of this bridge.

DATES: This rule becomes effective on November 29, 2000.

ADDRESSES: Documents referred to in this rule are available for inspection or copying at the office of the Eighth Coast Guard District, Bridge Administration Branch, Hale Boggs Federal Building, room 1313, 501 Magazine Street, New Orleans, Louisiana 70130-3396 between 7 a.m. and 3 p.m., Monday through Friday, except Federal holidays. The telephone number is (504) 589-2965. Commander (ob) maintains the public docket for this rulemaking.

FOR FURTHER INFORMATION CONTACT: Mr. David Frank, Bridge Administration Branch, telephone number 504-589-2965.

SUPPLEMENTARY INFORMATION:

Regulatory Information

We did not publish a notice of proposed rulemaking (NPRM) for this regulation. Under 5 U.S.C. 553(b)(B), the Coast Guard finds that good cause exists for not publishing an NPRM.

An NPRM is not necessary because this rule makes no substantive changes to the operation of the Kansas City Southern Lift Bridge, but it does describe the full remote operation of the bridge for the benefit of the public.

Background and Purpose

The Kansas City Southern Lift Bridge across the Neches River, mile 19.5, in Beaumont, TX is a remotely operated railroad bridge that opens to navigation on demand. The owners of the bridge, The Kansas City Southern Railway Company operates the bridge remotely from Shreveport, LA and has installed a sound device that transmits the vessel signals for an opening to the bridge operator. Then, through this same device, the bridge operator can respond whether the bridge can be opened at that time or not. No changes will be made to how the bridge currently operates.

For the benefit of the public, the Coast Guard is adding a description of the full operation of this remotely operated bridge to 33 CFR 117 subpart b.

Regulatory Evaluation

This final rule is not a significant regulatory action under section 3(f) of Executive Order (E.O.) 12866 and does not require an assessment of potential costs and benefits under section 6(a)(3) of that Order. It has not been reviewed by the Office of Management and Budget under that Order. It is not significant under the regulatory policies and procedures of the Department of Transportation (DOT)(44 FR 11040; February 26, 1979). The Coast Guard expects the economic impact of this final rule to be so minimal that a full Regulatory Evaluation under paragraph 10e of the regulatory policies and procedures of DOT is unnecessary.

Small Entities

Under the Regulatory Flexibility Act (5 U.S.C. 601 et seq.), the Coast Guard considers whether this final rule will have a significant economic impact on a substantial number of small entities. “Small entities” include (1) small businesses, not-for-profit organizations that are independently owned and operated and are not dominant in their fields, and (2) governmental jurisdictions with populations of less than 50,000.

Because the Coast Guard expects there to be no impact from this rule, it certifies, under 5 U.S.C. 605(b), that this rule will not have a significant economic impact on a substantial number of small entities. The Coast Guard expects no impact from this rule. There will be no changes made to the operation of the bridge.

Collection of Information

This final rule would call for no new collection of information under the Paperwork Reduction Act of 1995 (44 U.S.C. 3501-3520.).

Federalism

We have analyzed this final rule under E.O. 13132 and have determined that this final rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those costs. This final rule would not impose an unfunded mandate.

Taking of Private Property

This final rule would not effect a taking of private property or otherwise have taking implications under E.O. 12630, Governmental Actions and Interference with Constitutionally Protected Property Rights.

Civil Justice Reform

This final rule meets applicable standards in sections 3(a) and 3(b)(2) of E.O. 12988, Civil Justice Reform, to minimize litigation, eliminate ambiguity, and reduce burden.

Protection of Children

We have analyzed this final rule under E.O. 13045, Protection of Children from Environmental Health Risks and Safety Risks. This final rule is not an economically significant rule and does not concern an environmental risk to health or risk to safety that may disproportionately affect children.

Environment

We considered the environmental impact of this final rule and concluded that, under figure 2-1, paragraph (32)(e), of Commandant Instruction M16475.lC, this final rule is categorically excluded from further environmental documentation. This final rule will not change the operation of the bridge. A “Categorical Exclusion Determination” is available in the docket where indicated under ADDRESSES.

List of Subjects in 33 CFR Part 117

Bridges.

Regulations

For the reasons set out in the preamble, the Coast Guard is amending Part 117 of Title 33, Code of Federal Regulations, as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 105 Stat. 5039.

2. In § 117.971, the existing text is re-designated as paragraph (b) and a new paragraph (a) is added to read as follows:

§ 117.971 Neches River

(a) The draw of the Kansas City Southern automated bridge, mile 19.5, at Beaumont, is not constantly manned and is operated from a remote site in Shreveport, Louisiana. The bridge is normally maintained in the closed to navigation position, providing 13 feet of vertical clearance above mean high tide. This bridge will open on signal.

(1) Mariners may request a bridge opening at anytime via one of the following methods:

(i) Telephone at 1-877-829-6295;

(ii) Marine radio on VHF-FM Channel 16; or

(iii) Proper sound signal as prescribed in § 117.15.

(2) When signaling by sound, if return sound signal is not sent from the remote bridge operator, in compliance with § 117.15, contact the remote operator via telephone or marine radio.

(3) An audible warning siren will sound when the bridge is in motion. Video cameras will constantly monitor the waterway near and under the draw. Once a vessel has passed through the bridge, the draw will lower, provided the infrared “under bridge” presence detector and video cameras reveal nothing under the draw.

* * * * *

Dated: November 13, 2000.
Paul J. Pluta,
Rear Admiral, U.S. Coast Guard, Commander, Eighth Coast Guard District.

[FR Doc. 00-30391 Filed 11-28-00; 8:45 am]

BILLING CODE 4910-15-P